DEPARTMENT OF TRANSPORTATION

Federal Aviation Administration

14 CFR Part 71

[Docket No. FAA-2024-2573; Airspace Docket No. 23-AGL-20]

RIN 2120-AA66

Amendment of Jet Route J-538 and VOR Federal Airway V-129; Establishment of Canadian RNAV Routes Q-828, Q-945, Q-971, and T-797; and Revocation of Jet Routes J-483 and J-562; Northcentral United States

AGENCY: Federal Aviation Administration (FAA), DOT.

ACTION: Final rule.

SUMMARY: This action amends Jet Route J-538 and Very High Frequency Omnidirectional Range (VOR) Federal Airway V-129; establishes Canadian Area Navigation (RNAV) Routes Q-828, Q-945, Q-971, and T-797 within United States (U.S.) airspace; and revokes Jet Routes J-483 and J-562. The FAA is taking this action due to NAV CANADA's decommissioning of the Sioux Narrows (VBI), Ontario (ON), Canada, Very High Frequency Omnidirectional Range (VOR)/Distance Measuring Equipment (VOR/DME) navigational aid (NAVAID), and the planned decommissioning of the Lumsden (VLN), Saskatchewan (SK), Canada, VOR/Tactical Air Navigation (VORTAC) and Brandon (YBR), Manitoba (MB), Canada, VORTAC NAVAIDs. This action supports NAV CANADA's NAVAID Modernization Program.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) as necessary to preserve the safe and efficient flow of air traffic.

History

The FAA published an NPRM for Docket No. FAA-2024-2573 in the Federal Register (89 FR 97574; December 9, 2024), proposing to amend Jet Route J-538 and VOR Federal Airway V-129; establish Canadian RNAV Routes Q-828, Q-945, Q-971, and T-797 within U.S. airspace; and revoke Jet Routes J-483 and J-562. The proposed action was due to NAV CANADA's decommissioning of the Sioux Narrows, ON, Canada, VOR/DME NAVAID and the planned decommissioning of the Lumsden, SK, Canada, and Brandon, MB, Canada, VORTAC NAVAIDs. Interested parties were invited to participate in this rulemaking effort by submitting written comments on the proposal. No comments were received.

Differences From the NPRM

Subsequent to the NPRM, the FAA discovered the Canadian RNAV Route Q-828 description published in the proposal section and the proposed regulatory text of the NPRM was listed in reverse order and reflected an east to west orientation, in error. Based on the route identifier being an even number, the route should be published in a west to east orientation. This rule incorporates a correction of that error and reflects Canadian RNAV route extending between the FARID, MN, waypoint (WP) and the Duluth, MN, VORTAC.

Incorporation by Reference

Jet Routes are published in paragraph 2004, Canadian Area Navigation Routes (Q-routes) are published in paragraph 2007, VOR Federal Airways are published in paragraph 6010(a), and Canadian Area Navigation Routes (T-routes) are published in paragraph 6013 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 by amending Jet Route J-538 and VOR Federal Airway V-129; establishing Canadian RNAV Routes Q-828, Q-945, Q-971, and T-797 in U.S. airspace; and revoking Jet Routes J-483 and J-562. The FAA is taking this action due to the decommissioning of the Sioux Narrows, ON, Canada, VOR/DME and the planned decommissioning of the Lumsden, SK, Canada, and Brandon, MB, Canada, VORTAC NAVAIDs by NAV CANADA in support of their NAVAID Modernization Program. The Air Traffic Service (ATS) route actions are described below.

J-483: Prior to this final rule, J-483 extended between the Minot, ND, VOR/DME and the Lumsden, SK, Canada, VORTAC. The airspace within Canada was excluded. The route is removed in its entirety.

J-538: Prior to this final rule, J-538 extended between the Sioux Narrows, ON, Canada, VOR/DME and the Badger, WI, VOR/DME. The airspace within Canada was excluded. The route segment between the Sioux Narrows, ON, VOR/DME and the Duluth, MN, VORTAC is removed. As amended, the route is changed to now extend between the Duluth VORTAC and the Badger VOR/DME.

J-562: Prior to this final rule, J-562 extended between the Dickinson, ND, VORTAC and the Brandon, MB, Canada, VORTAC. The airspace within Canada was excluded. The route is removed in its entirety.

Q-828: Q-828 is a new Canadian RNAV route established by this rule within U.S. airspace extending between the FARID, MN, WP, which replaces the “CFCJN” Computer Navigation Fix (CNF) on the U.S./Canada border, and the Duluth, MN, VORTAC. The new RNAV route mitigates the J-538 amendment and provides route continuity and cross-border connectivity with the RNAV Route Q-828 established by NAV CANADA within Canadian airspace.

Q-945: Q-945 is a new Canadian RNAV route established by this rule within U.S. airspace extending between the Dickinson, ND, VORTAC and the OSMEE, ND, WP, which replaces the “CFMSZ” CNF on the U.S./Canada border. The new RNAV route mitigates the J-562 revocation and provides route continuity and cross-border connectivity with the RNAV Route Q-945 established by NAV CANADA within Canadian airspace.

Q-971: Q-971 is a new Canadian RNAV route established by this rule within U.S. airspace extending between the Minot, ND, VOR/DME and the CIPTA, ND, WP, which replaces the “CFHLT” CNF on the U.S./Canada border. The new RNAV route mitigates the J-483 revocation and provides route continuity and cross-border connectivity with the RNAV Route Q-971 established by NAV CANADA within Canadian airspace.

V-129: Prior to this final rule, V-129 extended between the Spinner, IL, VORTAC and the intersection of the International Falls, MN, VOR/DME 335° radial and U.S./Canadian border. The airway segment between the International Falls VOR/DME and the intersection of the International Falls VOR/DME 335° radial and U.S./Canadian border is removed. As amended, the airway is changed to now extend between the Spinner VORTAC and the International Falls VOR/DME.

T-797: T-797 is a new Canadian RNAV route established by this rule within U.S. airspace extending between the International Falls, MN, VOR/DME and the WUGOR, MN, WP, which replaces the “CFDTS” CNF on the U.S./Canada border. The new RNAV route mitigates the V-129 airway segment removal and provides route continuity and cross-border connectivity with the RNAV Route T-797 established by NAV CANADA within Canadian airspace.

The NAVAID radials listed in the VOR Federal Airway V-129 description in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending Jet Route J-538 and VOR Federal Airway V-129; establishing Canadian RNAV Routes Q-828, Q-945, Q-971, and T-797 in U.S. airspace; and revoking Jet Routes J-483 and J-562 due to the decommissioning of the Sioux Narrows, ON, Canada, VOR/DME and the planned decommissioning of the Lumsden, SK, Canada, and Brandon, MB, Canada, VORTAC NAVAIDs by NAV CANADA, qualifies for categorical exclusion under the National Environmental Policy Act (42 U.S.C. 4321, et seq.) and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-483 [Removed]

* * * * *

J-538 [Amended]

From Duluth, MN; Dells, WI; to Badger, WI.

* * * * *

J-562 [Removed]

* * * * *

Paragraph 2007 Canadian Area Navigation Routes.

* * * * *

Q-828 FARID, MN to Duluth, MN (DLH) [New]
FARID, MN | WP | (Lat. 48°36′13.96″ N, long. 093°25′16.09″ W)
Duluth, MN (DLH) | VORTAC | (Lat. 46°48′07.79″ N, long. 092°12′10.33″ W)

* * * * *

Q-945 Dickinson, ND (DIK) to OSMEE, ND [New]
Dickinson, ND (DIK) | VORTAC | (Lat. 46°51′36.14″ N, long. 102°46′24.60″ W)
OSMEE, ND | WP | (Lat. 48°59′59.19″ N, long. 100°49′57.63″ W)

* * * * *

Q-971 Minot, ND (MOT) to CIPTA, ND [New]
Minot, ND (MOT) | VOR/DME | (Lat. 48°15′37.21″ N, long. 101°17′13.46″ W)
CIPTA, ND | WP | (Lat. 48°59′55.84″ N, long. 102°20′17.11″ W)

Paragraph 6010(a) VOR Federal Airways.

* * * * *

V-129 [Amended]

From Spinner, IL; Peoria, IL; Davenport, IA; Dubuque, IA; INT Dubuque 348° and Nodine, MN, 150° radials; Nodine; Eau Claire, WI; Duluth, MN; Hibbing, MN; to International Falls, MN.

* * * * *

Paragraph 6013 Canadian Area Navigation Routes.

* * * * *

T-797 International Falls, MN (INL) to WUGOR, MN [New]
International Falls, MN (INL) | VOR/DME | (Lat. 48°33′56.87″ N, long. 093°24′20.44″ W)
WUGOR, MN | WP | (Lat. 48°35′58.85″ N, long. 093°25′44.53″ W)

Issued in Washington, DC, on May 6, 2025.
Brian Eric Konie,
Manager (A), Rules and Regulations Group.

[FR Doc. 2025-08230 Filed 5-9-25; 8:45 am]

BILLING CODE 4910-13-P